FEDERAL MARITIME COMMISSION

Sunshine Act; Meetings

Agency Holding the Meeting: Federal Maritime Commission.

Time and Date: December 3, 2008—10 a.m.

Place: 800 North Capitol Street, NW., First Floor Hearing Room, Washington, DC.

Status: A portion of the meeting will be in Open Session and the remainder of the meeting will be in Closed Session.

Matters to be Considered:

Open Session

(1) Docket No. 07-01—APM Terminals North America, Inc. v. Port Authority of NY and NJ and Port Authority of NY and NJ v. Maher Terminals LLC—Request for Extension of Time.

(2) FMC Agreement No. 201198, Marine Terminal Operators of Hampton Roads Discussion Agreement.

Closed Session

(1) Docket No. 04-09/05-03—American Warehousing of New York, Inc. v. The Port Authority of New York and New Jersey.

(2) FMC Agreement No. 201199—Port Fee Services Agreement.

(3) Staff Briefing Regarding Global Economic Downturn and Potential Impact on Stakeholders.

(4) Internal Administrative Practices and Personnel Matters.

Contact Person for More Information: Karen V. Gregory, Secretary, (202) 523-5725.

Karen V. Gregory,
Secretary.

[FR Doc. E8-28556 Filed 11-26-08; 4:15 pm]

BILLING CODE 6730-01-P